DEPARTMENT OF COMMERCE

National Telecommunications and Information Administration

[Docket No. 160331306-6306-01]

RIN 0660-XC024

The Benefits, Challenges, and Potential Roles for the Government in Fostering the Advancement of the Internet of Things

AGENCY: National Telecommunications and Information Administration, U.S. Department of Commerce.

ACTION: Notice; extension of comment period.

SUMMARY: On April 6, 2016, the National Telecommunications and Information Administration (NTIA) issued a notice and request for public comments to initiate an inquiry to review the current technological and policy landscape for the Internet of Things (IoT). In response to requests for additional time in which to comment, NTIA through this notice extends the closing deadline for submitting comments.

DATES: Comments are due on Thursday, June 2, 2016, by 5 p.m. Eastern Daylight Time.

ADDRESSES: Written comments may be submitted by email to iotrfc2016@ntia.doc.gov. Comments submitted by email should be machine-searchable and should not be copy-protected. Written comments also may be submitted by mail to the National Telecommunications and Information Administration, U.S. Department of Commerce, 1401 Constitution Avenue NW., Room 4725, Attn: IoT RFC 2016, Washington, DC 20230. Responders should include the name of the person or organization filing the comment, as well as a page number, on each page of their submissions. All comments received are a part of the public record and will generally be posted to https://www.ntia.doc.gov/category/internet-policy-task-force without change. All personal identifying information (e.g., name, address) voluntarily submitted by the commenter may be publicly accessible. Do not submit Confidential Business Information or otherwise sensitive or protected information. NTIA will also accept anonymous comments.

FOR FURTHER INFORMATION CONTACT: Travis Hall, National Telecommunications and Information Administration, U.S. Department of Commerce, 1401 Constitution Avenue NW., Room 4725, Washington, DC 20230; Telephone: (202) 482-3522; Email: thall@ntia.doc.gov. Please direct media inquiries to NTIA's Office of Public Affairs: (202) 482-7002.

SUPPLEMENTARY INFORMATION: As part of the Commerce Department's Digital Economy Agenda, NTIA has initiated an inquiry to review the current technological and policy landscape for IoT. NTIA seeks input from all interested stakeholders—including the private industry, researchers, academia, and civil society—on the potential benefits and challenges of these technologies and what role, if any, the U.S. Government should play in this area.¹

¹ See NTIA, Notice, Request for public comments, The Benefits, Challenges, and Potential Roles for the Government in Fostering the Advancement of the Internet of Things, 81 FR 19956 (April 6, 2016), available at https://www.ntia.doc.gov/files/ntia/publications/fr_rfc_iot_04062016.pdf.

After analyzing the comments, the Department intends to issue a “green paper” that identifies key issues impacting deployment of these technologies, highlights potential benefits and challenges, and identifies possible roles for the federal government to partner with the private sector to in foster the advancement of IoT technologies.

The original deadline for submission of comments was May 23, 2016. With this notice, NTIA announces that the closing deadline for submission of comments has been extended until June 2, 2016, at 5 p.m. Eastern Daylight Time.

Dated: May 6, 2016.
Kathy D. Smith,
Chief Counsel, National Telecommunications and Information Administration.

[FR Doc. 2016-11124 Filed 5-10-16; 8:45 am]

BILLING CODE 3510-60-P